DEPARTMENT OF COMMERCE

National Oceanic and Atmospheric Administration

Meeting: Climate Change Science Program (CCSP) Product Development Committee (CPDC) for Synthesis and Assessment Product 3.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 3.3 (CPDC-S&A 3.3) was established by a Decision Memorandum dated October 17, 2006. CPDC-S&A 3.3 is the Federal Advisory Committee charged with responsibility to develop a draft Synthesis and Assessment Product that addresses CCSP Topic 3.3: “Weather and Climate Extremes in a Changing Climate”.

Place: The meeting will be held at the National Climatic Data Center, 151 Patton Ave., Asheville, North Carolina, 28801.

Time and Date: The meeting will convene at 8:30 a.m. on Monday, October 22, 2007 and adjourn early afternoon on October 24, 2007. Meeting information will be available online on the CPDC-S&A 3.3 Web site (http://www.climate.noaa.gov/index.jsp?pg=./ccsp/33.jsp). Please note that meeting location, times, and agenda topics described below are subject to change.

Status: The meeting will be open to public participation and will include a 30-minute public comment period on October 22 from 8:30 a.m. to 9 a.m. (check Web site to confirm this time and the room in which the meeting will be held). The CPDC—S&A 3.3 expects that public statements presented at its meetings will not be repetitive of previously submitted verbal or written statements. In general, each individual or group making a verbal presentation will be limited to a total time of five (5) minutes. Written comments (at least 35 copies) should be received by the CPDC—S&A 3.3 Designated Federal Official (DFO) by October 15, 2007 to provide sufficient time for review. Written comments received after October 15 will be distributed to the CPDC—S&A 3.3, but may not be reviewed prior to the meeting date. Seats will be available to the public on a first-come, first-served basis.

Matters To Be Considered: The meeting will (1) formulate responses to the comments received during the official Public Comment Period on the Second Draft of Synthesis and Assessment Product 3.3 and revise the Second Draft accordingly; (2) finalize plans for completion and submission of the Third Draft of Synthesis and Assessment Product 3.3 to the Climate Change Science Program Office.

FOR FURTHER INFORMATION CONTACT: Dr. Christopher D. Miller, CPDC—S&A 3.3 DFO and the Program Manager, NOAA/OAR/Climate Program Office, Climate Change Data and Detection Program Element, 1315 East-West Highway, Room 12239, Silver Spring, Maryland 20910; telephone 301-734-1241, e-mail: Christopher.D.Miller@noaa.gov.

Dated: October 2, 2007.
Mark E. Brown,
Chief Financial Officer, Office of Oceanic and Atmospheric Research, National Oceanic and Atmospheric Administration.

[FR Doc. E7-19756 Filed 10-5-07; 8:45 am]

BILLING CODE 3510-KB-P